DEPARTMENT OF COMMERCE

Foreign-Trade Zones Board

[B-28-2025]

Foreign-Trade Zone (FTZ) 173, Notification of Proposed Production Activity; PINNACLEMOD LLC; Prefabricated Modular Steel Buildings; Aberdeen, Washington

PINNACLEMOD LLC submitted a notification of proposed production activity to the FTZ Board (the Board) for its facilities in Aberdeen, Washington, within FTZ 173. The notification conforming to the requirements of the Board's regulations (15 CFR 400.22) was received on May 13, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is prefabricated modular steel buildings (duty rate is 2.9%).

The proposed foreign-status materials/components include: PEX (crosslinked polyethylene) water supply pipes; plastic fittings for PEX piping system; luxury vinyl tile; plastic baths; plastic shower baths; plastic sinks; plastic washbasins; plastic (vinyl) windows; acoustical underlayment sheets made of SBR foam (rubber); wood flooring; wood doors; magnesium oxide boards; porcelain baths; porcelain sinks; porcelain wash basins; porcelain lavatories; porcelain flush tanks; fiberglass insulation sheets; flat rolled non-alloy zinc coated steel coils, width of 600 mm or more; cast iron sanitary pipes; stainless steel fittings for PEX piping system; steel fabricated structural hold down posts (parts of steel structures); pre-fabricated bathroom pods consisting of steel stud framing covered with gypsum boards, electrical wiring/fixtures, plumbing fixtures, piping, and tiles; pre-fabricated kitchen pods consisting of steel stud framing covered with gypsum boards, electrical wiring/fixtures, plumbing fixtures, piping, and tiles; panelized steel wall frames; panelized steel wall components; pre-fabricated steel wall panels; galvanized steel studs; galvanized steel tracks; steel bolts; steel screws; brass fittings for PEX piping system; air conditioning units; energy recovery ventilator units; control valves for PEX piping system; circuit breakers; electrical switches for household use; electrical outlets for household use; electrical boxes for protecting electrical circuits (metal junction boxes); electrical boxes for protecting electrical circuits (utility boxes); electrical boxes for protecting electrical circuits (square boxes); electrical panel boxes containing circuit breakers voltage not exceeding 1,000 volts; and, light-emitting diode house lights (duty rate ranges from duty-free to 6.3%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is June 30, 2025.

A copy of the notification will be available for public inspection in the “Online FTZ Information System” section of the Board's website.

For further information, contact Luke Engan at Luke.Engan@trade.gov.

Dated: May 15, 2025.
Elizabeth Whiteman,
Executive Secretary.

[FR Doc. 2025-09119 Filed 5-20-25; 8:45 am]

BILLING CODE 3510-DS-P